DEPARTMENT OF TRANSPORTATION

Office of the Secretary

Aviation Proceedings, Agreements Filed During the Week Ending August 23, 2002

The following Agreements were filed with the Department of Transportation under the provisions of 49 U.S.C. Sections 412 and 414. Answers may be filed within 21 days after the filing of the application.

Docket Number: OST-2002-13190.

Date Filed: August 20, 2002.

Parties: Members of the International Air Transport Association.

Subject: CTC COMP 0411 dated 2 August 2002. Worldwide Area Resolutions (changes to rates) except to/from USA/US Territories, CTC COMP 0417 dated 20 August 2002, technical correction Summary attached. Minutes—CTC COMP 0400 dated 25 June 2002. Tables—CTC1 Rates 0017, CTC2 EUR Rates 0018, CTC2 ME-AFR Rates 0029, CTC3 Rates 0020, CTC12 NATL-TC2 Rates 0068, CTC12 MATL-TC2 Rates 0034, CTC12 SATL-TC2 Rates 0033, CTC23 AFR-TC3 Rates 0020, CTC23 EUR-TC3 Rates 0021, CTC23 ME-TC3 Rates 0032, CTC31 N/C Rates 0014, CTC31 S Rates 0013, CTC123 Rates 0015. Intended effective date: 1 October 2002.

Docket Number: OST-2002-13192.

Date Filed: August 20, 2002.

Parties: Members of the International Air Transport Association.

Subject: PTC1 0226 dated 16 August 2002, Mail Vote 2226, TC1 Within South America, Expedited Special Amending Resolution 010y r1-r7, Intended effective date: 15 September 2002.

Docket Number: OST-2002-13193.

Date Filed: August 20, 2002.

Parties: Members of the International Air Transport Association.

Subject: PTC1 0227 dated 16 August 2002, Mail Vote 227, TC1 Longhaul (except between USA and Chile), Expedited Special Amending Resolution 010z r1-r4, Intended effective date: 15 September 2002.

Docket Number: OST-2002-13205.

Date Filed: August 21, 2002.

Parties: Members of the International Air Transport Association.

Subject: PTC2 EUR-ME 0144 dated 19 July 2002, TC2 Europe-Middle East Resolutions r1-r25. Minutes—PTC2 EUR-ME 0146 dated 20 August 2000. Tables—PTC2 EUR-ME Fares 0063 dated 26 July 2002, PTC2 EUR-ME Fares 0065 dated 26 July 2002, Technical Correction to PTC2 EUR-ME Fares 0063, PTC2 EUR-ME Fares 0067 dated 2 August 2002, Technical Correction to PTC EUR-ME Fares 0063, Intended effective date: 1 January 2003.

Andrea M. Jenkins,
Federal Register Liaison.

[FR Doc. 02-22511 Filed 9-3-02; 8:45 am]

BILLING CODE 4910-62-P